DEPARTMENT OF DEFENSE

Department of the Army; Corps of Engineers

Notice of Intent To Prepare an Environmental Impact Statement/Environmental Impact Report for the West Sacramento Levee Improvements Program, West Sacramento, CA

AGENCY: Department of the Army, U.S. Army Corps of Engineers; DoD.

ACTION: Notice of intent.

SUMMARY: The action being taken is the preparation of a programmatic and project-specific Environmental Impact Statement/Environmental Impact Report (EIS/EIR) for the West Sacramento Levee Improvements Program (WSLIP) in Yolo County and Solano County, CA. Under 33 U.S.C. 408, the Chief of Engineers grants permission to alter an existing flood control structure if it is not injurious to the public interest and does not impair the usefulness of such work. Under Section 404 of the Clean Water Act, the District Engineer permits the discharge of dredged or fill material into waters of the United States if the discharge meets the requirements for the Environmental Protection Agency's 404(b)(1) guidelines and is not contrary to the public interest. The U.S Army Corps of Engineers (Corps) will consider granting both 408 permission to the Central Valley Flood Protection Board (CVFPB) and 404 permit to West Sacramento Area Flood Control Agency (WSAFCA) for their work on the WSLIP. The CVFPB and WSAFCA are requesting this permission and permit in order to reduce flood risk the City of West Sacramento by meeting the following objectives for the project:

• Achieve a minimum of a 200-year level (an event that has a 0.5% chance of occurring in any given year) of flood protection for the entire City by improving approximately 50 miles of levees that protect it;

• Construct levee improvements as soon as possible to reduce flood risk as quickly as possible; and,

• Provide recreational and open space elements for the City that are compatible with flood improvement actions.

DATES: A public scoping meeting will be held on February 12, 2009 at 3:30 p.m. and 6:30 p.m. at the West Sacramento City Hall (see ADDRESSES). Send written comments by February 26, 2009 to (see ADDRESSES).

ADDRESSES: Public Scoping meeting, West Sacramento City Hall, 1110 West Capitol Avenue, West Sacramento, CA. Send written comments and suggestions concerning this study to Mr. Brian Buttazoni, U.S. Army Corps of Engineers, Sacramento District, Attn: Planning Division (CESPK-PD-RA), 1325 J Street, Sacramento, CA 95814 or to Mr. John Powderly, City of West Sacramento, 1110 West Capitol, Sacramento, CA 95691. Requests to be placed on the mailing list should also be sent to this address.

FOR FURTHER INFORMATION CONTACT: Questions about the proposed action and EIS/EIR should be addressed to Brian Buttazoni at (916) 557-6956, e-mail Brian.L.Buttazoni@usace.army.mil or John Powderly at (916) 617-4674, e-mail johnp@cityofwestsacramento.org or by mail (see ADDRESSES).

SUPPLEMENTARY INFORMATION: 1. Proposed Action. The Corps and WSAFCA are preparing an EIS/EIR to analyze the impacts of the work proposed in WSLIP. The Corps will serve as the lead agency under the provisions of NEPA and WSAFCA will serve as the lead agency under the provisions of the California Environmental Quality Act (CEQA).

Several studies have been conducted since 1989 by the Corps, California Department of Water Resources (DWR), and WSAFCA to evaluate the condition of the various levees protecting the City of West Sacramento. These studies have indicated that the levee system is deficient and that the consequences of levee failure from a major flood event would be significant.

Since the early 1990s, WSAFCA and its partners have undertaken several levee repair projects to address urgent levee deficiencies that pose serious flood risk. Many of these repair projects were the result of deficiencies noted during routine operations and maintenance inspections and repairs were performed on a case-by-case basis.

In July 2006, in response to new Corps design standards and the Federal Emergency Management Agency's (FEMA) Flood Insurance Rate Map modernization program, the City, as part of WSAFCA, determined that it was necessary to perform a comprehensive evaluation of all of the levees protecting the City to more definitely determine its current level of flood protection, determine the magnitude and severity of any deficiencies, and develop recommended strategies for improvement. For this most recent comprehensive evaluation, the levees were evaluated according to the latest Corps criteria for stability, seepage, erosion, geometry, and levee height. Data collected from the evaluation showed that much of the existing system does not provide protection from a 100-year flood event (an event having a 1% chance of occurring in any given year), the commonly accepted minimum level of flood protection.

WSAFCA has identified the primary deficiencies of the levee system, which include: Inadequate levee height, through-seepage and under-seepage, slope stability, seismic vulnerability, erosion, and non-compliant vegetation. The study area of the WSLIP includes the entire WSAFCA boundaries (over 50 miles of levees) which encompasses portions of the Sacramento River, the Yolo Bypass, the Sacramento Bypass, and the Sacramento Deep Water Ship Channel (DWSC). The study area has been subdivided into the following sub-reaches: Sacramento River Levee North, Sacramento River Levee South, Port North Levee, Port South Levee, South Cross Levee, Deep Water Ship Channel Levee East, Deep Water Ship Channel Levee West, Yolo Bypass Levee, and Sacramento Bypass Levee.

2. Alternatives. The EIS/EIR will address an array of flood control improvement alternatives at the program level. Alternatives analyzed during the investigation will include a combination of one or more flood protection measures. These measures include raising the existing levee; constructing an adjacent setback levee, cutoff walls, seepage berms, stability berms, internal drains, relief wells, or sheet-pile walls; slope flattening; placing stone protection; and vegetation removal.

Measures may be applied individually or combined to address deficiencies. For example, a seepage deficiency may be addressed by utilizing a seepage berm or a relief well, or a combination of both. Because each reach has a specific set of levee deficiencies and each levee deficiency has a number of different measures that could be utilized to improve the levee, WSAFCA is proposing to develop a range of alternatives on a reach-by-reach basis rather than basin-wide to provide greater flexibility. Constraints that would be considered during the development of alternatives for each reach could include land use (i.e., development immediately adjacent to the levee), available area for various types of construction activities necessary to construct improvements, and other environmental effects. Future actions analyzed at the program level may or may not require additional analysis under a separate tiered environmental document(s). A No-Action Alternative will be analyzed at the program level.

Three sites have been identified that would be analyzed at the project level and included within the EIS/EIR. Also known as “Early Implementation Projects,” these sites are known as CHP Academy, The Rivers, and the Sac Bank Extension Site. Analysis for the sites considered at the project level will include the analysis of No Action, a Preferred Alternative, and any other alternatives considered.

• CHP Academy Site. This site includes 4,500 feet of the Sacramento Bypass Levee and the northern 2,000 feet of the Sacramento River West North Levee, for a total length of 6,500 feet. Deficiencies include through-seepage and geometry. Under-seepage and stability deficiencies are also present in smaller pockets within this reach.

• The Rivers Site. This site is located just north of the confluence of the Sacramento and American Rivers, incorporating part of The Rivers residential development. The site extends from station 70+00 to station 115+00 on the Sacramento River, for a total length of approximately 4,500 feet. The site exhibits geometry, stability, and under-seepage deficiencies.

• Sac Bank Extension Site. This site is located just south of the barge canal on the Sacramento River and is the northern most end of the Sacramento River West South Levee. The site extends from station 270+00 to 332+50 for a total length of 6,250 feet. The site generally exhibits under-seepage, stability, and geometry deficiencies. There are a few locations which have erosion and levee height deficiencies as well. This site adjoins, complements, and extends a separate Corps project under the Sacramento River Bank Protection Project.

3. Scoping Process. a. Public scoping meetings will be held on February 12, 2009 to present information and to receive comments from the public. The Corps, with WSAFCA, has initiated a process to involve concerned individuals, and local, State, and Federal agencies.

b. Significant issues to be analyzed in depth in the EIS/EIR include effects on aesthetics, biological resources, hazards and hazardous materials, mineral resources, public services, utilities/service systems, agricultural resources, cultural resources, hydrology/water quality, noise, recreation, air quality, geology/soils, land use/planning, population/housing, transportation/traffic, and cumulative effects of related projects in the study area.

c. The Corps will consult with the State Historic Preservation Officer to comply with the National Historic Preservation Act, the U.S. Fish and Wildlife Service (FWS) and National Oceanic and Atmospheric Administration Fisheries Service to comply with the Endangered Species Act and the FWS to provide a Fish and Wildlife Coordination Act Report as an appendix to the EIS/EIR. Coordination will also be carried out with Native American and tribal groups. Consultation will be carried out on the three project level sites analyzed in the document. Those reaches considered at the program level would be fully analyzed in the future under separate tiered environmental document(s) and consultation would be carried out at that time.

d. A 45-day public review period will be provided for individuals and agencies to review and comment on the draft EIS/EIR. All interested parties are encouraged to respond to this notice and provide a current address if they wish to be notified of the draft EIS/EIR circulation.

4. Availability. The draft EIS/EIR is anticipated to be available for public review and comment in mid 2009.

Dated: January 13, 2009.
Thomas C. Chapman,
COL, EN Commanding.

[FR Doc. E9-1678 Filed 1-26-09; 8:45 am]

BILLING CODE 3720-58-P